DEPARTMENT OF HEALTH AND HUMAN SERVICES

Health Resources and Services Administration

Statement of Organization, Functions and Delegations of Authority

This notice amends Part R of the Statement of Organization, Functions and Delegations of Authority of the Department of Health and Human Services (DHHS), Health Resources and Services Administration (HRSA) (61 FR 65062-65065, December 10, 1996 and as last amended at 62 FR 27614-27615, dated May 20, 1997).

This notice is to amend the functions of a component of the Office of the Administrator. Specifically, this notice changes the name of the Office of Minority Health to the Office of Minority Health and Health Disparities, and revises the functional statement as follows:

Office of Minority Health and Health Disparities (RA9)

Serves as the principal advisor and coordinator to the agency for the special needs of minority and disadvantaged populations including: (1) Providing leadership and direction to address HHS and HRSA Strategic Plan goals and objectives related to improving minority health and eliminating health disparities; (2) establishing and managing an agency-wide data collection system for minority health activities and initiatives including the White House Initiatives for Historically Black Colleges and Universities, Educational Excellence for Hispanic Americans, Tribal Colleges and Universities, Asian Americans and Pacific Islanders, and Departmental Initiatives; (3) implementing activities to increase the availability of data to monitor the impact of agency programs in improving minority health and eliminating health disparities; (4) participating in the formulation of HRSA's goals, policies, legislative proposals, priorities, and strategies as they affect health professional organizations and institutions of higher education and others involved in or concerned with the delivery of culturally-appropriate, quality health services to minorities and disadvantaged populations; (5) consulting with Federal agencies and other public and private sector agencies and organizations to collaborate in addressing minority health and health disparities issues, including enhancing cultural competence in health service providers; (6) establishing short-term and long-range objectives; and (7) participating in the focus of activities and objectives in assuring equity in access to resources and health careers for minorities and the disadvantaged.

Section RA-30 Delegation of Authority

All delegations of authority which were in effect immediately prior to the effective date hereof have been continued in effect in them or their successors pending further redelegation. I hereby ratify and affirm all actions taken by any DHHS official which involved the exercise of these authorities prior to the effective date of this delegation.

This reorganization is effective upon the date of signature.

Dated: March 21, 2005.
Elizabeth M. Duke,
Administrator.

[FR Doc. 05-6205 Filed 3-29-05; 8:45 am]

BILLING CODE 4165-15-P